DEPARTMENT OF HOUSING AND URBAN DEVELOPMENT

[Docket No. FR-4860-N-01]

Funding Availability for HOME Investment Partnerships Program (HOME)—Competitive Reallocation of Funds to Provide Permanent Housing for the Chronically Homeless

AGENCY: Office of the Assistant Secretary for Community Planning and Development, HUD.

ACTION: Notice of Funding Availability (NOFA).

SUMMARY: This NOFA announces the availability of approximately $6.5 million for the competitive reallocation of deobligated Community Housing Development Organization (CHDO) set-aside funds.

Program Overview

Purpose of the Program. To expand the supply of standard, affordable, permanent housing for chronically homeless persons through the competitive reallocation of deobligated CHDO set-aside funds.

Available Funds. Approximately $6.5 million.

Eligible Applicants. You must currently be a participating jurisdiction (PJ) in the regular HOME Program and have received an annual HOME formula allocation each year since FY 2000. The projects funded through this NOFA must be carried out by eligible, currently certified CHDOs in your jurisdiction. Awarded funds are subject to the requirements of this NOFA and all other HOME requirements found at 24 CFR part 92. Where there is a conflict between the HOME regulations and this NOFA, the more stringent or limiting requirements shall prevail.

Application Deadline. November 25, 2003.

Match. 25 percent of the awarded funds invested in projects.

SUPPLEMENTARY INFORMATION: If you are interested in applying for funding under this competitive reallocation of HOME funds, please review the contents of this NOFA carefully.

I. Application Due Date, Standard Forms, Further Information, and Technical Assistance

Application Due Date. Applications for HOME competitive grants are due on or before November 25, 2003.

Application Submission Procedures. New Security Procedures. HUD has implemented new security procedures that apply to application submission. Please read the following instructions carefully and completely. HUD will not accept hand-delivered applications. Applications may be mailed using the United States Postal Service (USPS) or may be shipped via the following delivery services: United Parcel Service (UPS), FedEx, DHL, or Falcon Carrier. No other delivery services are permitted into HUD Headquarters without an escort. You are, therefore, urged to use one of the four carriers listed above.

Mailed Applications. Your application will be considered timely filed if your application is postmarked on or before 12 midnight on the application due date and received in HUD Headquarters on or within fifteen (15) days of the application due date. Applicants must obtain and save a receipt for the mailing showing the date when the application was submitted to the United States Postal Service (USPS). This receipt from USPS showing the date and time of the mailing will be your documentary evidence that your application was timely filed.

Applications Sent by Overnight/Express Mail Delivery. If your application is sent by overnight delivery or express mail, your application will be timely filed if it is received before or on the application due date, or when you submit documentary evidence that your application was placed in transit with the overnight delivery/express service no later than the application due date. Due to new security measures, you are urged to use one of four carrier services that do business with HUD Headquarters regularly. These services are UPS, DHL, FedEx and Falcon Carrier. Timely delivery of your application to HUD by a carrier other than those listed cannot be guaranteed. Delivery by these carriers must be made during HUD's Headquarters business hours, between 8:30 AM and 5:30 PM Eastern time, Monday through Friday. If these companies do not service your area, you should submit your application via the United States Postal Service.

Address for Submitting Applications. Submit one original and two copies of the application to Department of Housing and Urban Development, Office of Community Planning and Development, Processing and Control Unit, 451 Seventh Street, SW., Room 7251, Washington, DC 20410, ATTN: HOME Program—Permanent Housing for the Chronically Homeless (HOME).

For Application Forms. Only current participating jurisdictions in the HOME Program that have received an annual HOME formula allocation each year since FY 2000 are eligible to apply. There is no separate application kit. This notice contains all the information necessary for submission of your application. Copies of the standard forms are located at Appendix 2 of this NOFA, or you may request copies by calling the contact person in the Office of Affordable Housing Programs identified in the following paragraph. When requesting standard forms, you should refer to the HOME Program Competition and provide your name and address (including zip code) and telephone number (including area code). See Section VI for application submission requirements.

Further Information and Technical Assistance. You may contact Cliff Taffet, Deputy Director, Office of Affordable Housing Programs, Department of Housing and Urban Development, Room 7168, 451 Seventh Street, SW., Washington, DC 20410-7000; telephone (202) 708-3226, ext. 4589 (this is not a toll-free number). This number can be accessed via TTY by calling the toll-free Federal Information Relay Service Operator at 1-800-877-8339.

Paperwork Reduction Act Statement. The information collection requirements in this NOFA have been approved by OMB under the Paperwork Reduction Act of 1995 (44 U.S.C. 3501-3520) and assigned OMB control number 2506-0175. Under the Paperwork Reduction Act, an agency may not conduct or sponsor, and a person is not required to respond to, a collection of information unless the collection displays a valid control number.

II. Amount Allocated

The amount available for this program is approximately $6.5 million. Section 217(c) of the Cranston-Gonzalez National Affordable Housing Act (NAHA) (42 U.S.C. 12704 et seq.) requires that funds that become available as a result of the deobligation by HUD of CHDO set-aside funds previously allocated to HOME Program participating jurisdictions must be reallocated by competition. Approximately $6.5 million has been recaptured since the program began in 1992. Any additional recaptured CHDO set-aside funds that become available within 12 months of the announcement of awards may be used to fund applications submitted in response to this NOFA.

III. Program Description; Eligible Applicants; Eligible Projects; Ineligible Activities

(A) Program Description. The purpose of the regular HOME program is to expand the supply of standard, affordable housing for low- and very low-income families by providing annual formula grants to states, units of general local government and consortia of units of general local governments that are participating jurisdictions (PJs). Each PJ must spend at least 15 percent of its grants on housing that is owned, developed or sponsored by nonprofit CHDOs. PJs use their HOME grants to fund housing programs that meet local needs and priorities and have a great deal of flexibility in designing their local HOME programs within the guidelines established by the HOME program statute and regulations. PJs may use HOME funds to help renters, new homebuyers or existing homeowners through rehabilitation of substandard housing, acquisition of standard housing (including downpayment assistance), or new construction of housing or tenant-based rental assistance. HOME works well with other HUD programs such as Community Development Block Grant (CDBG), Empowerment Zones/Enterprise Communities (EZ/EC) and HOPE VI to complement comprehensive neighborhood revitalization and economic revitalization strategies.

In July 2001, Secretary Martinez declared a national goal to end chronic homelessness within a decade. As part of HUD's overall effort to reduce or eliminate chronic or episodic homelessness, grants awarded to PJs under this competition must be used to provide permanent housing to persons meeting the definition of chronically homeless. A chronically homeless person is defined as an unaccompanied homeless individual with a disabling condition who has either been continuously homeless for a year or more OR has had at least four episodes of homelessness in the past three years. For the purposes of this NOFA, the term “homeless” means a person sleeping in a place not meant for human habitation (e.g., living on the streets or in an emergency shelter). The term “disabling condition” is defined as a diagnosable substance use disorder, serious mental illness, developmental disability or chronic physical illness or disability, including the co-occurrence of two or more of these conditions. A disabling condition limits an individual's ability to work or perform one or more activities of daily living.

(B) Eligible Applicants. For the purposes of this competition, eligible applicants are existing participating jurisdictions in the regular HOME Program that have received an annual HOME formula allocation each year since FY 2000. The projects funded through this NOFA must be carried out by nonprofit organizations that have been currently determined by the PJ to meet the definition of CHDO. CHDOs selected by a PJ to carry out these projects are expected to establish partnerships with other community-based organizations, including grass-roots faith-based organizations, with experience in serving the chronically homeless, in order to ensure that appropriate supportive services are available to tenants on an ongoing basis. Information on such organizations active in your area may be obtained through local Continuum of Care networks. A list of contact persons for established continua of care that have submitted applications to HUD for homeless assistance funding under the McKinney-Vento Act (42 U.S.C. 11301 et seq.) can be found in Appendix 3.

(C) Eligible Projects. The only eligible projects under this NOFA are CHDO set-aside rental projects permitted under the regular HOME formula program, except that rental housing units produced using these funds must be permanent housing units with occupancy during the HOME affordability period limited to persons having met the definition of chronically homeless at the time they are selected as tenants. An eligible set-aside project is one where a CHDO owns, develops or sponsors the housing produced. Funds awarded in this competition are subject to all regular HOME Program regulations (24 CFR part 92), including the 24-month commitment deadline and five-year expenditure deadline. As permitted in the regular HOME Program, up to five percent of the total of a participating jurisdiction's regular HOME formula allocation plus funds awarded in this competition may be used to pay for CHDO operating costs necessary in carrying out projects funded through this NOFA (see 24 CFR 92.208). In order to ensure the ongoing viability of projects funded under this NOFA, long-term operating support may be needed from other sources such as the Shelter Plus Care Program through which rental assistance may be obtained. You should identify these potential sources of support and make provision now for obtaining them as part of your planning for the use of funds awarded under this NOFA, should you be selected. Existing continuum of care networks will be of assistance as well in this effort.

(D) Ineligible Activities: See 24 CFR 92.214 of the regular HOME Program regulations. Except for the development and support of the acquisition, rehabilitation or new construction of rental housing, activities that are otherwise eligible in the regular HOME Program (i.e., homeownership and tenant-based rental assistance) are ineligible uses of funds under this competition.

IV. Threshold and Program Requirements

(A) Threshhold Requirements:

(1) Ineligible Applicants. HUD will not consider an application from an ineligible applicant.

(2) Compliance with Fair Housing and Civil Rights Laws.

(a) All applicants and their subrecipients must comply with all Fair Housing and Civil Rights laws, statutes, regulations, and Executive Orders as enumerated in 24 CFR 5.105(a), as applicable.

(b) If you, the applicant:

(i) Have been charged with a systemic violation of the Fair Housing Act alleging ongoing discrimination;

(ii) Are a defendant in a Fair Housing Act lawsuit filed by the Department of Justice alleging an on-going pattern or practice of discrimination; or,

(iii) Have received a letter of non-compliance findings, identifying on-going or systemic noncompliance, under Title VI of the Civil Rights Act, Section 504 of the Rehabilitation Act, or Section 109 of the Housing and Community Development Act; and

If the charge, lawsuit, or letter of findings has not been resolved to HUD's satisfaction before the application deadline, you may not apply for assistance under this NOFA. HUD will not rate and rank your application. HUD's decision regarding whether a charge, lawsuit, or a letter of findings has been satisfactorily resolved will be based upon whether appropriate actions have been taken to address allegations of on-going discrimination in the policies or practices involved in the charge, lawsuit, or letter of findings. Examples of actions that may be taken prior to the application deadline to resolve the charge, lawsuit, or letter of findings, include, but are not limited to:

(i) a voluntary compliance agreement signed by all parties in response to the letter of findings;

(ii) a HUD-approved conciliation agreement signed by all parties;

(iii) a consent order or consent decree; or

(iv) a judicial ruling or a HUD Administrative Law Judge's decision that exonerates the respondent of any allegations of discrimination.

(3) Conducting Business In Accordance with Core Values and Ethical Standards.

Entities subject to 24 CFR parts 84 and 85 (most non-profit organizations and state, local and tribal governments or government agencies or instrumentalities that receive federal awards of financial assistance) are required to develop and maintain a written code of conduct (see 24 CFR 84.42 and 85.36(b)(3)). Consistent with regulations governing specific programs, your code of conduct must: prohibit real and apparent conflicts of interest that may arise among officers, employees, or agents; prohibit the solicitation and acceptance of gifts or gratuities by your officers, employees, and agents for their personal benefit in excess of minimal value; and, outline administrative and disciplinary actions available to remedy violations of such standards. If awarded assistance under this NOFA, you will be required, prior to entering into an agreement with HUD, to submit a copy of your code of conduct and describe the methods you will use to ensure that all officers, employees, and agents of your organization are aware of your code of conduct. Failure to meet the requirement for a code of conduct will prohibit you from receiving an award of funds from HUD.

(4) Delinquent Federal Debts. Consistent with the purpose and intent of 31 U.S.C. 3720B and 28 U.S.C. 3201(e), no award of federal funds shall be made to an applicant who has an outstanding delinquent federal debt until: (a) The delinquent account is paid in full; (b) a negotiated repayment schedule is established and at least one payment is received; or (c) other arrangements satisfactory to the Department of Housing and Urban Development are made prior to the deadline submission date.

(5) Executive Order 13202, Preservation of Open Competition and Government Neutrality Toward Government Contractors' Labor Relations on Federal and Federally Funded Construction Contracts. Compliance with HUD regulations at 24 CFR 5.108 implementing Executive Order 13202 is a condition of receipt of assistance under this NOFA. Subrecipients are considered recipients of financial assistance for purposes of § 5.108.

(6) Procurement of Recovered Materials. State agencies and agencies of a political subdivision of a state that are using assistance under this NOFA for procurement, and any person contracting with such an agency with respect to work performed under an assisted contract, must comply with the requirements of Section 6002 of the Solid Waste Disposal Act, as amended by the Resource Conservation and Recovery Act. In accordance with Section 6002, these agencies and persons must procure items designated in the guidelines of the Environmental Protection Agency (EPA) at 40 CFR part 247 that contain the highest percentage of recovered materials practicable, consistent with maintaining a satisfactory level of competition, where the purchase price of the item exceeds $10,000 or the quantity acquired in the preceding fiscal year exceeded $10,000; must procure solid waste management services in a manner that maximizes energy and resource recovery; and must have established an affirmative procurement program for procurement of recovered materials identified in the EPA guidelines.

(B) Program Requirements: In addition to meeting the requirements of this NOFA, you are subject to the regular HOME program regulations found at 24 CFR part 92, including the reporting of results in the Integrated Disbursement and Information System (IDIS). Where there is a conflict between the HOME regulations and this NOFA, the more stringent or limiting requirements shall prevail.

V. Application Selection Process

(A) Rating. HUD will review all applications in accordance with the requirements of this NOFA and will use the threshold criterion described below and the three selection criteria and sub-factors referenced at 24 CFR 92.453 and found at section 217(c) of NAHA. As explained below in section V.(E), two of the three selection criteria are related to the applicant's past performance in the regular HOME Program. To facilitate the competition, HUD has already determined the scores for all potential applicants for these two selection criteria, including sub-factors, based on information reported to HUD by participating jurisdictions. A summary of these scores can be found in Appendix 1 to this NOFA. The score received for the remaining selection criterion will be added to the applicant's scores for the past performance criteria in order to obtain the applicant's total score in the competition.

(B) Ranking and Selection Procedures. Applications that receive a total rating of 75 points or more will be eligible for selection, and HUD will place these applications and make selections in rank order.

HUD will not fund any portion of an application that is ineligible for funding under program requirements, or which does not meet the requirements of this NOFA. If funds remain after all selections have been made, these funds may be combined with deobligations of CHDO set-aside funds over the 12-month period following announcement of selections under this NOFA, and awarded to the highest-ranking un-funded, eligible application(s) in this competition.

(C) Applicant Debriefing. Beginning not less than 30 days after the public announcement of awards, and not longer than 120 days, HUD will, upon receiving a written request from an applicant, provide a debriefing to the requesting applicant. Materials provided during a briefing will be the applicant's final score and final evaluator comments for the third selection criterion, and the calculations for assigning scores for the two pre-scored criteria. Applicants requesting to be debriefed must send a written request to Cliff Taffet, Deputy Director, Office of Affordable Housing Programs, Department of Housing and Urban Development, Room 7168, 451 Seventh Street, SW., Washington, DC 20410-7000.

(D) Requirements. The following requirements apply specifically to this HOME Program competition:

(1) You, the applicant, must be eligible to apply under HOME (see Section III(B) of this NOFA).

(2) The projects undertaken with funds awarded through this NOFA must be permanent housing projects that are owned, developed or sponsored by eligible, currently certified CHDOs, and qualify as CHDO set-aside projects under the regular HOME regulations.

(3) During the affordability period applicable to the projects developed with funds provided through this NOFA, persons residing in assisted units must meet the definition of “chronically homeless” at the time they are selected as tenants.

(E) Factors for Award Used to Evaluate Applications. HUD will review and rate all eligible HOME competitive applications using the Threshold Criterion, Selection Criteria and the Application Submission Requirements described below. The maximum number of points for this competition is 100. No RC/EZ/EC bonus points are given.

Threshold Criterion: Narrative on chronic homelessness in your jurisdiction.

No applicant will be awarded funding without providing this narrative as part of the application! However, your response to this item will NOT be scored and will NOT count toward the 10-page limitation on responses to Selection Criterion 3 described below. Please provide a description of the extent of chronic homelessness in your jurisdiction and the main points of your strategy to end chronic homelessness by 2012, including any cooperation with other participating jurisdictions in your state to develop, coordinate and implement such a plan. Much if not all of this information may be found in the FY 2003 homeless assistance application from local Continua of Care networks and/or as part of the housing strategy described in your Consolidated Plan. If the boundaries of your participating jurisdiction do not coincide with those of the local Continuum of Care or if there is no active Continuum of Care network in your jurisdiction, please explain this as part of your narrative.

Selection Criterion 1: Commitment (up to 25 points—pre-scored)

The applicant's demonstrated commitment to expand the supply of affordable rental housing, as indicated by the additional number of units of affordable housing made available through production or rehabilitation within the previous two years, making adjustment for regional variations in construction and rehabilitation costs and giving special consideration to the number of additional units made available under HOME through production or rehabilitation in relation to the amounts made available under HOME.

In scoring this criterion, HUD used Integrated Disbursement and Information System (IDIS) reports consisting of information provided by the PJs on the number of HOME-assisted rental units completed over the past two years (from July 1, 2001 through June 30, 2003), adjusting for variations in construction costs and the size of HOME allocations. The PJs were then rank-ordered from highest to lowest by the adjusted number of rental units produced or rehabilitated. PJs with no HOME-assisted rental units produced or rehabilitated received zero points. The remaining PJs were divided into 25 equal groups, adjusted for ties, with the group having the most such units receiving 25 points, the next group receiving 24 points and so on. (See Appendix 1 for the score assigned to your PJ for this criterion.)

Submission Requirements for Selection Criterion 1:

No submission required.

Selection Criterion 2: Actions (up to 50 points—pre-scored)

This criterion consists of four parts and rates the applicant's actions that:

Part A: (up to 15 points—pre-scored): Direct funds made available under HOME to benefit very low-income families, with a range of incomes, in numbers that exceed the income-targeting requirements of HOME, with extra consideration given for activities that expand the supply of affordable housing for very-low-income families whose incomes do not exceed 30 percent of the median income for the area (i.e., extremely low-income), as determined by HUD.

In scoring this part, HUD used Integrated Disbursement and Information System (IDIS) reports consisting of information provided by the PJs on the percentage of their completed units over the period of their participation in the HOME Program occupied by very low- and extremely low-income households, with double weighting given the extremely low-income segment. The PJs were then rank-ordered from highest to lowest by the weighted percentage of units occupied by the very low- and extremely low-income households. PJs with fewer than 20 units indicated as being occupied by these households or with less than 70 percent of completed rental units occupied received zero points. The remaining PJs were divided into 15 equal groups, adjusted for ties, with the group having the highest adjusted percentage receiving 15 points, the next group receiving 14 points and so on. (See Appendix 1 for the score assigned to your PJ for this part of criterion 2.)

Submission Requirements for Selection Criterion 2, part A:

No submission required.

Part B: (up to 10 points—pre-scored): Provide matching resources in excess of funds required under the HOME requirements.

In scoring this part, HUD used HUD field office reports on the status of PJs in meeting their regular HOME Program match requirement for the past two completed reporting periods. Those PJs having met or exceeded their match liability over this period received 10 points. Those PJs not having met their match liability in one or more of the past two completed reporting periods received zero points. (See Appendix 1 for the score assigned to your PJ for this part of criterion 2.)

Submission Requirements for Selection Criterion 2, part B:

No submission required.

Part C: (up to 15 points—pre-scored): Stimulate a high degree of participation in development by the private sector, including non-profit organizations.

In scoring this part, HUD used Integrated Disbursement and Information System (IDIS) reports consisting of information provided by the PJs to determine that at least one of the multi-family (5-units or more) rental projects completed within the past two years within the participating jurisdiction was funded through the eligible use of the CHDO set-aside. The focus was on CHDO rental projects in this part since funds awarded in this competition must be used by CHDOs for eligible CHDO set-aside projects. Those PJs having met this standard received 15 points. Those PJs not having met this standard received zero points. (See Appendix 1 for the score assigned to your PJ for this part of criterion 2.)

Submission Requirements for Selection Criterion 2, part C:

No submission required.

Part D: (up to 10 points—pre-scored): Stimulate a high degree of investment in development by the private sector, including non-profit organizations.

In scoring this part, HUD used Integrated Disbursement and Information System (IDIS) reports consisting of information provided by the PJs to determine the extent to which, in percentages, each PJ was leveraging private funds with HOME dollars invested in completed projects. The PJs were then rank-ordered from highest to lowest by the leveraging percentage. PJs with no leveraging indicated in IDIS, or less than $50,000 in HOME funds invested overall in completed projects, received zero points. The remaining PJs were divided into 10 equal groups, adjusted for ties, with the group having the highest percentage receiving 10 points, the next group receiving 9 points and so on. (See Appendix 1 for the score assigned to your PJ for this part of criterion 2.)

Submission Requirements for Selection Criterion 2, part D:

No submission required.

Selection Criterion 3: Policies (up to 25 points)

This criterion examines the degree to which your PJ is pursuing policies that:

(A) Make existing housing more affordable;

(B) Remove or ameliorate any negative effects that public policies identified by you in your Consolidated Plan may have on the cost of housing or the incentives to develop, maintain, or improve affordable housing in the jurisdiction;

(C) Preserve the affordability of privately owned housing that is vulnerable to conversion, demolition, disinvestment, or abandonment;

(D) Increase the supply of housing that is affordable to very low-income and low-income persons, particularly in areas that are accessible to expanding job opportunities; and

(E) Remedy the effects of discrimination and improve housing opportunities for disadvantaged minorities.

Submission Requirements for Selection Criterion 3:

(1) Identify for each of the five goals listed above the policy or policies currently being implemented by your PJ to achieve the goal.

(2) Indicate for each policy whether it has been formally adopted (e.g., city council or legislative action; city, county or state executive action; included as part of a state or local planning document, etc.).

(3) Describe the effects of the policy or policies thus far in achieving the goal being specific as to performance measures used.

(4) There is an absolute maximum limit of 10 pages (letter-sized, single-sided) for your submission in response to selection criterion 3. No information contained on page 11 or higher will be reviewed by HUD or considered in the scoring of your application.

(F) Final Ranking and Conditional Awards. The score received by each PJ for the three selection criteria will be totaled and the PJs will be rank ordered from highest to lowest score received. Five hundred thousand dollars will be awarded to the PJ receiving the highest score. Moving down the ranking, $500,000 will be awarded to the next highest scoring PJ and so on until the balance of funds remaining is less than $500,000. Should two or more PJs have tie scores for the final award, the PJ receiving the highest score for selection criterion number 1 will be awarded the funds. Additional tie-breaks will be applied in the following order until a final award can be made: selection criterion 2A, selection criterion 2B, selection criterion 2C, selection criterion 2D, selection criterion 3. The awards are conditional pending execution of a special grant agreement between HUD and the PJ applicant. These awards may be combined with other federal funds, including regular HOME Program funds, state, local or private funding to develop the required permanent rental housing for the homeless that is subject to all regular HOME Program regulations.

VI. Application Requirements and Checklist for Application Submission

Your application consists of the items listed in this Section VI. The standard forms, certifications, and assurances that are applicable to this funding (collectively referred to as the “standard forms”) can be found in Appendix 2. The following checklist helps to ensure that all of the required items have been submitted in order to receive consideration for funding:

—HUD 424, Application for Federal Assistance and Funding Matrix (signed by the authorized representative of the organization eligible to receive funds, and incorporating Assurance and Certifications currently on file with HUD); and

Narrative Statements Addressing

—Threshold Criterion—Description of the extent of and the strategy to address chronic homelessness in your jurisdiction;

—Selection Criterion 3—Policies; and

Forms

—HUD-2880, Applicant/Recipient Disclosure/Update Report

—HUD-2993, Acknowledgment of Application Receipt

These forms are available on the following Web site: http://www.hud.gov/offices/adm/grants/nofa/stdforms.cfm.

VII. Corrections to Deficient Applications

After the application due date, HUD may not, consistent with its regulations in 24 CFR part 4, subpart B, consider any unsolicited information you, the applicant, may want to provide. HUD may contact you to clarify an item in your application or to correct technical deficiencies. HUD may not seek clarification of items or responses that improve the substantive quality of your response to any rating factors. In order not to unreasonably exclude applications from being rated and ranked, HUD may contact applicants to ensure proper completion of the application and will do so on a uniform basis for all applicants. Examples of curable (correctable) technical deficiencies include failure to submit the proper certifications or failure to submit an application that contains an original signature by an authorized official. In each case, HUD will notify you in writing by describing the clarification or technical deficiency. HUD will notify applicants by facsimile or by USPS, return receipt requested. Clarifications or corrections of technical deficiencies in accordance with the information provided by HUD must be submitted within 14 calendar days of the date of receipt of the HUD notification. (If the due date falls on a Saturday, Sunday, or federal holiday, your correction must be received by HUD on the next day that is not a Saturday, Sunday, or federal holiday.) If the deficiency is not corrected within this time period, HUD will reject the application as incomplete and it will not be considered for funding.

VIII. Environmental Requirements

This NOFA provides funding under, and does not alter the environmental requirements of, 24 CFR part 92. Accordingly, under 24 CFR 50.19(c)(5), this NOFA is categorically excluded from environmental review under the National Environmental Policy Act of 1969 (42 U.S.C. 4321). Activities under this NOFA are subject to the environmental review provisions set out at 24 CFR 92.352.

All HOME assistance is subject to the National Environmental Policy Act of 1969 and related federal environmental authorities. HOME grant applicants are cautioned that no federal or non-federal funds or assistance which limits reasonable choices or could produce an adverse environmental impact may be committed to a project until all required environmental reviews and notifications have been completed by a unit of general local government or State and until HUD approves a recipient's request for release of funds under the environmental provisions contained in 24 CFR part 58.

IX. Authority

The funding made available under this NOFA is authorized by section 217(c) of the Cranston-Gonzalez National Affordable Housing Act (NAHA) (42 U.S.C. 12704 et seq.).

Dated: October 6, 2003.
Roy A. Bernardi,
Assistant Secretary for Community Planning and Development.

BILLING CODE 4210-29-P

[FR Doc. 03-26033 Filed 10-14-03; 8:45 am]

BILLING CODE 4210-29-C